DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of July 2003.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None

In the following case, the investigation revealed that the criteria for eligibility have not been met for the reasons specified.

The investigation revealed that criterion (a)(2)(A) (I.C.) (Increased imports) and (a) (2)(B) (II.B) (No shift in production to a foreign country) have not been met.

TA-W-51,718; LeCroy Corp., Beaverton, OR

TA-W-51,799; Plastech Corp., Amery, WI

TA-W-52,010; Imperial of Morristown, Inc., Morristown, TN

TA-W-51,780; QCR Tech LLC, Madison Heights, MI

TA-W-51,787; Production Pattern Co, Bedford, OH

TA-W-51,859; Memscap, Inc., Formerly JDS Uniphase's, Chronos Mems Business Unit, Research Triangle Park, NC

TA-W-51,870; McKenzie Forest Products, Springfield, OR

TA-W-51,969; Knaack Manufacturing Co., Payson, UT

TA-W-51,989; Coates Screen, East Rutherford, NJ

The workers firm does not produce an article as required for certification under Section 222 of the Trade Act of 1974.

TA-W-52,142; Covington Needleworks, Mt. Olive, MS

TA-W-52,137; Computer Sciences Corp., Customer Support Services, San Diego, CA

TA-W-52,048; Hamilton Sundstrand Corp., a wholly-owned subsidiary of United Technologies Corp., Long Beach, CA

TA-W-52,131; Motorola, Personal Communications Sector, North America Contact Center, Schaumburg, IL

TA-W-52,147; Furniture Makers Supply, Martinsville, VA

TA-W-52,153; Target.Direct, Westgate Facility, St. Paul, MN

TA-W-52,154; McDonnell Douglas Technical Services, Inc., d/b/a The Aviant Group, Long Beach, CA

TA-W-52,238; PCS Administration (USA), Inc., Northbrook, IL

The investigation revealed that criteria (a)(2)(A)(I.B) (Sales or production, or both, did not decline) and (II.B) (has shifted production to a country not under the free trade agreement with the U.S) have not been met.

TA-W-51,929; LeSportsac, Manufacturing and Distribution Division, Stearns, KY

The investigation revealed that criteria (a)(2)(A)(I.C) (increased imports) and (a)(2)(B) (II.C) (has shifted production to a country not under the free trade agreement with the U.S.) have not been met.

TA-W-51,756; Mattel, Inc., Mt. Laurel, NJ

The investigation revealed that criteria (2) has not been met. The workers firm (or subdivision) is not a supplier or downstream producer to trade-affected companies.

TA-W-52,109; K.C. Holding, Inc., formerly doing business as Crews Manufacturing, Newnan, GA

Affirmative Determinations for Worker Adjustment Assistance

The following certifications have been issued; the date following the company name and location of each determination references the impact date for all workers of such determination.

The following certifications have been issued. The requirements of (a)(2)(A) (increased imports) of Section 222 have been met.

TA-W-51,321; Rome Cable Corp., a subsidiary of Rome Group, Inc., Rome, NY: March 18, 2002.

TA-W-51,674; Celeste Industries Corp., including workers of ESI, Barrett Temporaries, and A Perfect Job. Com, Easton, MD: May 1, 2002.

TA-W-51,933; Vigorelli Sportswear, including leased workers of Strategic Outsourcing, Inc., McMinnville, TN: May 22, 2002.

TA-W-51,955; Gilmour Manufacturing Co., Somerset, PA: June 4, 2002.

TA-W-51,998; Ameripol Synpol Corp., Port Neches, TX: January 26, 2003.

TA-W-52,046; Sauer-Danfoss Co., Mini Steering Units Div., Sturtevant, WI: June 10, 2002.

TA-W-52,126; Broyhill Furniture Industries, Inc., Plant 55, a wholly owned subsidiary of Furniture Brands International, Inc., Lenoir, NC: June 3, 2002.

TA-W-52,135; Ford Motor Company, Powertrain Operations, Vulcan Forging Plant, Dearborn, MI: June 23, 2002.

TA-W-52,166; Charles Komar and Sons, Oklahoma Div., McAlester, OK: June 19, 2002.

TA-W-52,225; SCI Enclosures LLC, Stanton, KY: May 12, 2002.

TA-W-51,593; Tamaqua Cable Products, Schuylkill Haven, PA: April 16, 2002.

TA-W-51,611; National Steel Corp (NSC), Corporate Headquarters, Mishakawa, IN, A; Granite City Div., Granite City, IL, B; Great Lakes Operations, Ecorse, MI, C; Midwest Operations, Portage, Inc, D; Procoil Corp., Canton, MI, E; Technical Research Center, Trenton, MI, F; National Steel Pellet Co., Keewatin, MN, G; NSL, Inc., Portage, IN, H; TMH, Portage, IN, I; Delray Connecting Railroad, Detroit, MI: April 8, 2002.

TA-W-51,877; Peak Oilfield Service Co. a subsidiary of Nabors Industries and Cook Inlet Region, Inc., Anchorage, AK: December 30, 2001.

TA-W-51,979; OH, Baby Enterprise, Ltd, New York, NY: June 3, 2002.

TA-W-51,990; Waterfront Sportswear, Inc., Fall River, MA: June 5, 2002.

TA-W-52,016; Trio Dyeing and Finishing, Paterson, NJ: May 20, 2002.

TA-W-52,079; Photocircuits Corp., including leased workers of Brookville Staffing and Sigma Staffing, Glen Cove, NY: June 9, 2002.

The following certifications have been issued. The requirements of (a)(2)(B) (shift in production) of Section 222 have been met.

TA-W-51,904; Primanex Corp., Fremont, CA: May 20, 2002.

TA-W-51,991; Gateway Hosiery Mills, Inc., North Wilkesboro, NC: June 4, 2002.

TA-W-52,014; Robert Bosch Fuel Systems Corp., formerly Diesel Technology Co., a div. of Robert Bosch North America, Kentwood, MI: June 10, 2002.

TA-W-52,091; Precision Dynamics Corp., Belleville, KS: May 23, 2002.

TA-W-52,156; DeLong Sportswear, Inc., Crowell, TX: June 25, 2002.

TA-W-52,165; Endar Corp., a div. of Blyth, Inc., Temecula, CA: June 19, 2002.

TA-W-52,185; State of Alaska Commercial Fisheries Entry Commission Permit #S04T64124J, Ekuk, AK: June 6, 2002.

TA-W-51,866; GE Transportation Systems, Global Signaling LLC, Grain Valley, MO: May 23, 2002.

TA-W-51,890; Continental Tire North America (CTNA), Mayfield, KY: May 27, 2002.

TA-W-51,948; Irwin Industrial Tool Co., a div. of Newell Rubbermaid, Beatrice, NE: June 3, 2002.

TA-W-51,966; Springs Window Fashions, 7200 Stewart Avenue, a div. of Springs Industries, including leased workers of Kelly Services, Inc., & Seek, Inc. Wausau, WI: June 4, 2002.

TA-W-51,981; Emerson Climate Technologies, Flow Controls Div., St. Louis, MO: June 5, 2002

TA-W-52,015; Baxter Healthcare Corp., Mountain Home, AR: June 10, 2002.

TA-W-52,032; Precision Interconnect, a div. of Tyco Healthcare Group, LP, Broomfield, CO: June 12, 2002.

TA-W-51,081; Flex-N-Gate Oklahoma, LLC, Ada, OK: June 2, 2002.

TA-W-52,089; Dixie Industrial Coatings, Inc., Chattanooga, TN: June 9, 2002.

TA-W-52,121; Anvil Knitwear, Inc., a div. of Anvil Holdings, Inc., Hamer, SC: June 17, 2002.

TA-W-52,125; A.O. Smith, Electrical Products Co., EPC, Ripley, TN: June 23, 2002.

TA-W-52,206; Say Cheese, Lewiston, ME: June 26, 2002.

TA-W-52,212; OBG Distribution, LLC, a div. of Oshkosh B'Gosh, Inc., Gainesboro, TN: June 30, 2002.

The following certification has been issued. The requirement of upstream supplier to a trade certified primary firm has been met.

TA-W-51,996; Border Chemical, Inc., Mount Jewett, PA: June 6, 2002.

TA-W-52,013; Shipley Company, LLC, a subsidiary of Rohm & Haas, Spartanburg, SC: May 29, 2002.

I hereby certify that the aforementioned determinations were issued during the months of July 2003. Copies of these determinations are available for inspection in Room C-5311, U.S. Department of Labor, 200 Constitution Avenue, NW., Washington, DC 20210 during normal business hours or will be mailed to persons who write to the above address.

Dated: July 14, 2003.
Timothy Sullivan,
Director, Division of Trade Adjustment Assistance.

[FR Doc. 03-18547 Filed 7-21-03; 8:45 am]

BILLING CODE 4510-30-P